DEPARTMENT OF COMMERCE

International Trade Administration

Advisory Committee on Supply Chain Competitiveness Solicitation of Nominations for Membership

AGENCY: International Trade Administration, Department of Commerce.

ACTION: Notice of an opportunity to apply for membership on the advisory committee on supply chain competitiveness.

SUMMARY: The Department of Commerce, International Trade Administration (ITA), seeks nominations for immediate consideration to fill positions on the Advisory Committee on Supply Chain Competitiveness (“The Committee”). The Committee advises the Secretary on the necessary elements of a comprehensive policy approach to supply chain competitiveness. The Department intends for the Committee to continue to play a key role in formulating recommendations to address current global supply chain challenges, including identifying key bottlenecks in supply chains and actionable solutions to address them, advising on the latest advances in supply chain data and technology and how to apply them to the current challenges in the economy, providing advice to the Department of Commerce on its supply chain-focused work, and developing long term recommendations to make supply chains more resilient. The Department seeks members who, by virtue of their current roles and past experience, bring a track record of effective senior executive leadership on issues impacting the U.S. and global supply chains.

DATES: ITA will accept nominations received by 5:00 p.m. on January 2, 2024, for membership on the Committee until the current two-year charter term ends November 8, 2025.

ADDRESSES: Richard Boll, Office of Supply Chain Services, Room 11004, U.S. Department of Commerce, 1401 Constitution Avenue NW, Washington, DC 20230; email: richard.boll@trade.gov.

FOR FURTHER INFORMATION CONTACT: Richard Boll, Office of Supply Chain Services, Room 11004, U.S. Department of Commerce, 1401 Constitution Avenue NW, Washington, DC 20230; email: richard.boll@trade.gov; phone: 202-482-1135. Please visit the Advisory Committee on Supply Chain Competitiveness website at: https://www.trade.gov/acscc.

SUPPLEMENTARY INFORMATION:

I. Background

The Committee advises the Secretary on the necessary elements of a comprehensive policy approach to supply chain competitiveness designed to support national economic competitiveness and U.S. export growth, encouraging innovation, facilitate the movement of goods, and improve competitiveness of U.S. supply chains for goods and services in the domestic and global economy; and on regulatory policies and programs and investment priorities that affect the competitiveness of supply chains. The Committee provides detailed policy and technical advice, information, and recommendations to the Secretary regarding:

(1) national, state, or local factors in trade programs and policies that affect the efficient domestic and international operation and competitiveness of U.S. global supply chains from point of origin to destination;

(2) elements of national policies affecting the movement of goods, infrastructure, investment, and regulatory factors that affect supply chain competitiveness and sustainability; and

(3) information and data systems to generate metrics that can be used to quantify and improve supply chain performance.

The Department intends for the Committee to focus on the current challenges facing the supply chain during this charter term.

II. Membership

Members will be selected based on their demonstrated professional or personal qualifications and experience relevant to the functions and tasks of the Committee. Members shall be selected in a manner that ensures that the Committee remains balanced with respect to the diversity of the supply chain sector, including with regard to geographic location and company size. The diverse membership of the Committee ensures perspectives and expertise reflecting the full breadth of the Committee's responsibilities and, where possible, the Department of Commerce will also consider the ethnic, racial and gender diversity of the United States.

Members of the Committee shall represent companies, organizations, and stakeholders involved in the U.S. supply chain, with at least one individual representing each of the following: supply chain firms or their associations; users of supply chains (e.g., retailers, distributors, manufacturers or other sectors); freight transportation providers; ports; and academia. Based on the balance of viewpoints currently represented on the Committee, we encourage representatives of workers in the supply chain, representatives from the agriculture and cold chain sectors, as well as the retail and e-commerce sectors, and the other sectors referenced above.

Other than the experts from academia, all members shall serve in a representative capacity, expressing the views and interests of a U.S. company or U.S. organization with which they are affiliated (e.g., as an employee or director), as well as its particular sector. Members serving in such a representative capacity are not Special Government Employees. The members from academia serve as experts and therefore are Special Government Employees (SGEs) and shall be subject to the ethical standards applicable to SGEs. Members who serve as SGEs must certify that they are not Federally-registered lobbyists.

Each member of the Committee must be a U.S. citizen and not registered as a foreign agent under the Foreign Agents Registration Act. All appointments are made without regard to political affiliation. Self-nominations will be accepted.

Members of the Committee will not be compensated for their services or reimbursed for their travel expenses. The Committee shall meet approximately quarterly, or as determined by the DFO. Members shall serve at the pleasure of the Secretary.

III. Request for Nominations

Requirements for all nominations. All nominations for membership on the Committee should provide the following information:

(1) Name, title, and relevant contact information (including phone and email address) of the individual requesting consideration; and

(2) An affirmative statement that the applicant is not required to register as a foreign agent under the Foreign Agents Registration Act of 1938.

Additional requirements for representative nominations. In addition to the above requirements for all nominations, nominations for representatives of companies, organizations, and stakeholders involved in the U.S. supply chain, including supply chain firms or their associations; users of supply chains (e.g., retailers, distributors, manufacturers, or other sectors); freight transportation providers; and ports, should also provide the following information:

(1) A sponsor letter on the letterhead of the sponsoring U.S. company or U.S. organization to be represented, containing a brief description why the nominee should be considered for membership; the nominee maybe and employee, director, or other representative of a company or organization; consideration will be given to the nominee's current affiliation with the company or organization to be represented, as well as prior experience with other companies of organizations that demonstrate the ability to contribute to the work of the Committee:

(2) Short biography of nominee including credentials;

(3) Brief description of the U.S. company or U.S. organization to be represented and its activities and size (number of employees or members and annual sales, if applicable); and

(4) An affirmative statement that the applicant meets all Committee eligibility requirements for representative members, including that the applicant represents a U.S. company or U.S. organization.

a. For purposes of Committee eligibility, a U.S. company is at least 51 percent owned by U.S. persons.

b. For purposes of Committee eligibility, a U.S. organization is controlled by U.S. persons, as determined based on its board of directors (or comparable governing body), membership, and funding sources, as applicable.

Please do not send company or organizational brochures. Additional requirements for academic nominations. In addition to the above requirements for all nominations, nominations for experts from academia should also provide the following information:

(1) A description of the nominee's area(s) of expertise;

(2) A concise Curriculum Vitae (CV) or resume that covers education, experience, and relevant publications and summarizes how this expertise addresses supply chain competitiveness;

(3) An affirmative statement that the applicant meets all Committee eligibility requirements.

Nominations may be emailed to acscc@trade.gov. Nominees selected for appointment to the Committee will be notified.

Dated: November 30, 2023.
Heather Sykes,
Director, Office of Supply Chain Services.

[FR Doc. 2023-26745 Filed 12-5-23; 8:45 am]

BILLING CODE 3510-DR-P